DEPARTMENT OF TRANSPORTATION

Pipeline and Hazardous Materials Safety Administration

Office of Hazardous Materials Safety; Notice of Application for Special Permits

AGENCY: Pipeline and Hazardous Materials Safety Administration, DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before May 15, 2006.

ADDRESSES: Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street SW., Washington DC or at http://dms.dot.gov.

This notice of receipt of applications for special permits is published in accordance with part 107 of the Federal hazardous materials transportation law (49 U.S.C. 5117(b); 49 CFR 1.53(b)).

Dated: Issued in Washington, DC, on April 11, 2006.
R. Ryan Posten,
Chief, Special Permits Program, Office of Hazardous Materials Special Permits & Approvals.

New Special Permits
Application number | Docket number | Applicant | Regulation(s) affected | Nature of special permits thereof
14329-N |  | Qal-Tek Associates, Idaho Falls, ID | 49 CFR 173.431 | To authorize the transportation in commerce of certain radioactive materials exceeding the quantity that may be transported in a Type A packaging. (modes 1, 4)
14330-N |  | Chemical & Metal Industries, Inc., Hudson, CO | 49 CFR 179.300-15(d) | To authorize the transportation in commerce of certain DOT Specification 106 and 110 multi-unit tank car tanks that have a type CG-3 fusible plug device in place of a type CG-2 fusible plug. (mode 1)
14331-N |  | Ecoflo, Greensboro, NC | 49 CFR Parts 171-180 except 173.21 | To authorize the transportation in commerce of hazardous materials between two facilities of North Carolina State University in non-DOT specification packagings with no hazard communication. (mode 1)
14332-N |  | Eagle-Picher Technologies, LLC, Joplin, MO | 49 CFR 173.226(c) | To authorize the manufacture, mark, sale and use of a combination packaging for Division 6.1 hazardous materials in Hazard Zone A with a lower hydrostatic test pressure. (modes 1, 2)
14333-N |  | The Columbiana Boiler Co., Columbiana, OH | 49 CFR 179.300-13(b) | To authorize the transportation in commerce of certain DOT Specification 110A500W containers that have straight threads in the clean-out/inspection port openings instead of National Gas Taper Threads. (mode 2)
14335-N |  | Rinchem Company, Albuquerque, NM | 49 CFR 177.848(d) | To authorize the transportation of Division 2.3 Zone A materials in the same transport vehicle as packages containing the residue only of Division 2.1, 2.2, 2.3, 4.3, 5.1 and Class 3 and 8 hazardous materials. (mode 1)
14336-N |  | Ecology Control Industries, Torrance, CA | 49 CFR 173.244 | To authorize the one-way transportation in commerce of sodium metal in non-DOT specification bulk packaging by highway. (mode 1)
14337-N |  | NKCF Co., Ltd. Jisa-Dong, Kangseo-Gu Busan | 49 CFR 173.301, 173.302a, 173.304a | To authorize the manufacture, mark, sale and use of non-DOT specification cylinders conforming in part with the DOT Specification 3AA for the transportation in commerce of certain Division 2.1, 2.2 and 2.3 hazardous materials. (modes 1, 2, 3, 4, 5)
14338-N |  | Defense Technology Corporation, Casper, WY | 49 CFR 173.302 | To authorize the manufacture, mark, sale and use of a refillable non-DOT specification cylinder similar to a DOT specification 39 cylinder. (modes 1, 3, 4)
14339-N |  | Crossfire Composites Company, Kalamazoo, MI | 49 CFR 173.302a, 173.304a | To authorize the manufacture, mark, sale and use of non-DOT specification fully wrapped carbon composite aluminum lined cylinders for the transportation in commerce of certain Division 2.1 and 2.2 hazardous materials. (modes 1, 2, 3, 4, 5)
14341-N |  | Baker Petrolite, Sugar Land, TX | 49 CFR 173.226(a) | To authorize the manufacture, mark, sale and use of DOT 4BW240 cylinders for the transportation of acrolein by motor vehicle and cargo vessel. (modes 1, 3)
14342-N |  | Tri-Wall, A Weyerhaeuser Business, Butler, IN | 49 CFR 173.12(b) | Authorizes the manufacture, mark, sale and use of a corrugated fiberboard box for use as the outer packaging for lab pack applications in accordance with 49 CFR 173.12(b).
14343-N |  | Valero St. Charles, Norco, LA | 49 CFR Subpart C of 49 CFR | To authorize the transportation in commerce of certain hazardous materials without shipping paper documentation when transported across public roads within the Valero facility. (mode 1)

[FR Doc. 06-3588 Filed 4-13-06; 8:45 am]

BILLING CODE 4909-60-M